DEPARTMENT OF ENERGY

Federal Energy Regulatory Commission

[Docket No. EL08-8-000]

Mirant Energy Trading, LLC, Mirant Chalk Point, LLC, Mirant Mid-Atlantic, LLC, Mirant Potomac River, LLC, Complainants, v. PJM Interconnection, L.L.C., Respondent; Notice of Complaint

November 9, 2007.

Take notice that on November 8, 2007, Mirant Energy Trading, LLC, Mirant Chalk Point, LLC, Mirant Mid-Atlantic, LLC, and Mirant Potomac River, LLC (collectively, Mirant Parties) filed a formal complaint against PJM Interconnection, Inc. L.L.C. (PJM) pursuant to sections 206 and 306 of the Federal Power Act, 16 U.S.C. 824(e), 825(e) and Rule 206 of the Rules of Practice and Procedure of the Federal Energy Regulatory Commission, 18 CFR 385.206, alleging that certain provisions of PJM's Open Access Transmission Tariff implementing PJM's Reliability Pricing Model (RPM) are unjust and unreasonable, and requesting that the Commission direct PJM to modify the definition of “Opportunity Cost” with respect to the Third Incremental Auction under RPM.

The Mirant Parties certify that copies of the complaint were served on the contacts for PJM as listed on the Commission's list of Corporate Officials, as well as on persons designated on the official service list.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on November 29, 2007.

Kimberly D. Bose,
Secretary.

[FR Doc. E7-22619 Filed 11-19-07; 8:45 am]

BILLING CODE 6717-01-P